DEPARTMENT OF TRANSPORTATION

Federal Transit Administration

Notice of Intent To Prepare an Environmental Impact Statement for METRO Blue Line Extension Light Rail Transit Project

AGENCY: Federal Transit Administration (FTA), Department of Transportation (DOT).

ACTION: Notice of intent to prepare a Supplemental Environmental Impact Statement (EIS).

SUMMARY: The Federal Transit Administration (FTA), as lead Federal agency, and Metropolitan Council (Council), as local project sponsor and joint lead agency, issue this notice to advise the public that they intend to prepare a Supplemental Environmental Impact Statement (SEIS) for the METRO Blue Line Extension light rail transit (LRT) project (Project) pursuant to the National Environmental Policy Act (NEPA). The Project would extend the Blue Line LRT approximately 13.5 miles from Target Field in downtown Minneapolis to the northwest, serving north Minneapolis and the suburbs of Robbinsdale, Crystal, and culminating in Brooklyn Park.

DATES: Comments related to the NEPA review of this project must be received on or before September 18, 2023.

ADDRESSES: Comments on the scope of the SEIS should be directed to Ms. Neha Damle, Environmental Lead, Blue Line Extension Project Office, 6465 Wayzata Boulevard, Suite 600, St. Louis Park, MN 55426; or via telephone at 612-373-3888 or email at Neha.Damle@metrotransit.org.

FOR FURTHER INFORMATION CONTACT: For general information on FTA's NEPA review, please contact Ms. Anshu Singh, Federal Transit Administration, Region V, 200 West Adams Street, Suite 320, Chicago, IL 60606, at (312) 353-4344 or anshu.singh1@dot.gov. Information about the SEIS will be available at the public meeting(s) and on the Project website, Environmental Information page at https://metrocouncil.org/Transportation/Projects/Light-Rail-Projects/METRO-Blue-Line-Extension/Environmental.aspx.

SUPPLEMENTARY INFORMATION: FTA issued the original notice of intent to prepare an EIS for the Project on January 10, 2012, and issued the Record of Decision (ROD) in 2016. The purpose of this NOI is to alert interested parties regarding the intent to prepare a SEIS; to provide information on the nature of the proposed changes to the Project; to invite public participation in the SEIS process, including comments on the scope of the SEIS proposed in this NOI; and to announce that public and agency meetings on the proposed modifications to the Project will be conducted. FTA determined this Project is exempt from the major project requirements in FTA's environmental statute because it is a supplemental review to an earlier NEPA review that pre-dates the major project requirements.

FTA and the Council (the Agencies) will prepare a SEIS in accordance with NEPA and its implementing regulations. The SEIS will evaluate two alternatives, a Build Alternative and a No Build Alternative. After circulation of the Draft SEIS and consideration of comments received, FTA intends to issue a combined Final SEIS/Amended ROD document pursuant to 23 U.S.C. 139(n)(2), unless the Final SEIS makes substantial changes to the proposed action that are relevant to environmental or safety concerns or there is a significant new circumstance or information relevant to environmental concerns that affect the proposed action or its impacts, which would preclude issuance of a combined document.

In 2016, FTA published a Final Environmental Impact Statement (Final EIS) and ROD for the Project based on the preferred Project alignment at that time. The Project, located in Hennepin County, Minnesota, would have extended approximately 13.5 miles from downtown Minneapolis to the northwest serving north Minneapolis and the suburbs of Golden Valley, Robbinsdale, Crystal, and Brooklyn Park. Since the 2016 publication of the Final EIS and ROD, the Agencies worked with BNSF Railway to negotiate use of their freight rail right-of-way. However, the group has not been able to reach an agreement. Therefore, the originally preferred Project alignment needs to be modified.

I. Purpose and Need for the Proposed Action

The Purpose and Need statements remain the same as the Final EIS and ROD. The purpose of the Project is to provide transit service, which will satisfy the long-term regional mobility and accessibility needs for businesses and the traveling public. The Project is needed to effectively address long-term regional transit mobility and local accessibility needs while providing efficient, travel-time competitive transit service that supports economic development goals and objectives of local, regional, and statewide plans. For more information on the purpose and need, including project goals, please visit https://metrocouncil.org/Transportation/Projects/Light-Rail-Projects/METRO-Blue-Line-Extension.aspx.

II. Description of Proposed Action and Alternatives

Based on technical considerations and community input, a modified route was recommended by the Council and Hennepin County on June 22, 2022. The SEIS will study the following route: West Broadway Avenue in Brooklyn Park to Bottineau Boulevard (County Road 81 or CR 81), CR 81 in Crystal & Robbinsdale to West Broadway Avenue in North Minneapolis, and multiple potential routes (West Broadway Avenue or 21st Street Avenue; Lyndale or a route east of I-94) to Target Field Station. The Project would no longer be located in the City of Golden Valley with the proposed modifications to the route alignment.

A No-Build option will be analyzed in the SEIS, as required by the NEPA regulation (40 CFR 1502.14(c)). The SEIS will evaluate environmental impacts within the locations where the modified alignment is proposed. The SEIS will be prepared in accordance with the requirements of NEPA, and its implementing regulations at 40 CFR parts 1500-1508, and in accordance with 23 CFR 771.130. The Council will also prepare the SEIS in accordance with the requirements of the Minnesota Environmental Policy Act (Minnesota Rules Chapter 4410.3000, Subp. 3).

The SEIS will evaluate the following changes since the 2016 Final EIS and ROD:

West Broadway Avenue/Brooklyn Park

The proposed LRT elements (stations, a park and ride, an operations and maintenance facility (OMF), and track) remain the same as in the 2016 Final EIS and ROD. However, the reconstruction and expansion of West Broadway (from north of Brooklyn Boulevard to 93rd Avenue), which was previously identified as a separate project, is being included in the SEIS.

Bottineau Boulevard (County Road 81)/Southern Brooklyn Park and Crystal

In Southern Brooklyn Park and Crystal, the SEIS will evaluate a proposed modified LRT alignment on Bottineau Boulevard. The SEIS will evaluate proposed stations at 63rd Avenue and Bass Lake Road. The SEIS will also evaluate changes to Bottineau Boulevard needed to accommodate the proposed modified LRT alignment, including a conventional at-grade intersection with a pedestrian bridge to access the station and a grade-separate elevated structure carrying Bottineau Boulevard over Bass Lake Road.

Bottineau Boulevard (County Road 81)/Robbinsdale

In Robbinsdale, the SEIS will evaluate the proposed modified LRT alignment on Bottineau Boulevard. In addition, the SEIS will evaluate a proposed station in downtown Robbinsdale in the median of Bottineau Boulevard with a park-and-ride facility and a proposed station at Lowry Avenue near North Memorial Hospital. The proposed station at Lowry Avenue near North Memorial Hospital would be elevated over Oakdale Avenue, Theodore Wirth Parkway, and the southbound lanes of Bottineau Boulevard.

West Broadway Avenue or 21st Avenue/Minneapolis

In Minneapolis, the SEIS will evaluate a proposed modified LRT alignment on West Broadway Avenue between Lowry Avenue and North Irving Avenue. East of North Irving Avenue, the Project will evaluate two proposed alignment options: an LRT option on West Broadway and an LRT option on 21st Avenue.

Lyndale Avenue or I-94/Minneapolis

Further, two proposed modified alignment options to Target Field Station will be evaluated in the SEIS. Both of the proposed route options would connect to either 21st Avenue or West Broadway (see above) and travel over I-94 on a bridge. After crossing the bridge, the first proposed alignment would run on Lyndale Avenue to North 7th Street. The other proposed alignment option would run along the east side of I-94, parallel to Washington Avenue, and use 10th Avenue N to North 7th Street.

III. Summary of Expected Impacts

The SEIS will focus on potentially significant impacts associated with the Project's proposed modified alignment. The full range of environmental, social, and economic impacts will be considered, but those that are significant will be evaluated in depth in the SEIS. The proposed modified alignment has potentially significant new impacts to residents and businesses, as well as other social and community impacts.

The SEIS will assist the Council, FTA, resource agencies, key project partners, and the general public in understanding and resolving project elements within the context of NEPA. The purpose of the SEIS process is to explore, in a public setting, potentially significant effects of implementing proposed changes to the proposed Project on the physical, human, and natural environment. Specifically, it is anticipated that the type and scale of impacts associated with this change may include the need to acquire additional rights-of-way (residences and businesses) and potential new impacts on parks, historic properties, and communities and neighborhoods, in addition to new impacts on traffic and roadway operations based on the proposed modified alignment's use of surface streets and county roads.

Areas of investigation include, but are not limited to, land use; historic and archaeological resources; visual and aesthetic qualities; traffic and parking; modification to existing bridges; noise and vibration; environmental justice; regulatory floodway/floodplain encroachments; coordination with transportation and economic development projects; and construction impacts. Other issues to be addressed in the SEIS include natural areas; ecosystems; threatened and endangered species; water resources; air/surface water and groundwater quality; energy; potentially contaminated sites; displacements and relocations; Section 4(f) requirements; Section 6(f) of the Land and Water Conservation Fund Act; and secondary and cumulative effects. Potential impacts will be evaluated for both the short-term construction period and the long-term effects of operations. Potential measures to avoid, minimize, or mitigate any significant adverse impacts will be identified.

IV. Anticipated Permits and Other Authorizations

In addition to issuing an Amended ROD (FTA) at the conclusion of the SEIS process, the following Federal permits and approvals are anticipated:

• Supplemental Section 4(f) Determination (FTA)

• Amended Section 106 Memorandum of Agreement (FTA)

• Amended 404 Wetland Permit (USACE)

• Section 7 Concurrence (US Fish and Wildlife Service)

• Letter of No Objection for Use Within Runway Protection Zone (FAA)

• Letter of Map Revision Approval (Federal Emergency Management Agency)

• National Pollutant Discharge Elimination System Permit (Minnesota Pollution Control Agency [MPCA])

• Section 401 Water Quality Certification (MPCA)

• Various State and Local Approvals as needed

V. Schedule for the Decision-Making Process

The Agencies intend to complete the SEIS for the Project within two years, measured from the date of the publication of this notice to the date an Amended ROD is signed. The Agencies will accept public comments on the scope of the SEIS (i.e., the information presented in this notice and at https://metrocouncil.org/Transportation/Projects/Light-Rail-Projects/METRO-Blue-Line-Extension/Environmental.aspx through September 18, 2023. The Agencies will then consider those comments as they prepare the Draft SEIS. The Agencies will announce the availability of the Draft SEIS in the Federal Register and via local media outlets. The Council expects the Draft SEIS will be available for a minimum 45-day public comment period by Spring 2024. The Draft SEIS will be distributed and available for public and agency review and comment prior to a public hearing. The Agencies will consider substantive comments timely submitted during the public comment period and then anticipate preparing a combined Final SEIS/Amended ROD by early 2025. The Final SEIS will identify the NEPA preferred alternative and any necessary mitigation commitments. The Agencies expect that all Federal environmental authorization decisions for the construction of the Project will be completed within a reasonable period following issuance of the Amended ROD.

Notices of public meetings, including hearings, have been, and will continue to be, given through a variety of media providing the time and place of the meeting along with other relevant information. Information regarding the proposed modifications to the Project will be provided at upcoming public meetings. Meeting date, time, and location information can be found on the Project website, Meetings and Events page, at: https://metrocouncil.org/Transportation/Projects/Light-Rail-Projects/METRO-Blue-Line-Extension/Meetings-and-Materials.aspx. Public meeting locations will comply with the Americans with Disabilities Act. Persons needing special accommodations should contact Ms. Neha Damle, Environmental Lead, using the contact information provided under the Addresses section above, at least 48 hours prior to the meeting.

VI. Request for Identification of Potential Alternatives, Information, and Analysis

The Agencies invite all State, Tribal, local governments, and the public to comment on potential alternatives, information, and analyses to be considered in the SEIS.

Kelley Brookins,
Regional Administrator, FTA Region V.

[FR Doc. 2023-17742 Filed 8-17-23; 8:45 am]

BILLING CODE 4910-57-P